DEPARTMENT OF COMMERCE

Foreign-Trade Zones Board

[B-32-2023]

Foreign-Trade Zone 128—Whatcom County, Washington; Application for Reorganization Under Alternative Site Framework

An application has been submitted to the Foreign-Trade Zones (FTZ) Board by the Lummi Indian Business Council, grantee of FTZ 128, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 9, 2023.

FTZ 128 was approved by the FTZ Board on September 4, 1986 (Board Order 334, 51 FR 32237, September 10, 1986). The current zone includes the following sites: Site 1 (123 acres)—Lummi Indian Reservation, 2830 Kwina Road, Bellingham.

The grantee's proposed service area under the ASF would be all Lummi Nation property which encompasses the Lummi Indian Reservation plus all property owned by the Lummi Nation outside the exterior boundaries of the Lummi Indian Reservation in Washington, as described in the application. If approved, the grantee would be able to serve sites throughout the service area based on companies' needs for FTZ designation. The application indicates that the proposed service area is within and adjacent to the Bellingham Customs and Border Protection port of entry.

The applicant is requesting authority to reorganize its existing zone to include the existing site as a “magnet” site. The ASF allows for the possible exemption of one magnet site from the “sunset” time limits that generally apply to sites under the ASF, and the applicant proposes that Site 1 be so exempted. No subzones/usage-driven sites are being requested at this time.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is July 11, 2023. Rebuttal comments in response to material submitted during the foregoing period may be submitted during the subsequent 15-day period to July 26, 2023.

A copy of the application will be available for public inspection in the “Online FTZ Information Section” section of the FTZ Board's website, which is accessible via www.trade.gov/ftz. For further information, contact Qahira El-Amin at Qahira.El-Amin@trade.gov.

Dated: May 9, 2023.
Elizabeth Whiteman,
Executive Secretary.

[FR Doc. 2023-10210 Filed 5-11-23; 8:45 am]

BILLING CODE 3510-DS-P